DEPARTMENT OF TRANSPORTATION

Research and Special Programs Administration

Office of Hazardous Materials Safety; Notice of Applications for Exemptions

AGENCY: Research and Special Programs Administration, DOT.

ACTION: List of applicants for exemptions.

SUMMARY: In accordance with the procedure governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before July 2, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on May 24, 2001.
J. Suzanne Hedgepeth,
Director, Office of Hazardous Materials, Exemptions and Approvals.

New Exemptions
Application No. | Docket No. | Applicant | Regulation(s) affected | Nature of exemption thereof
12682-N | RSPA-01-9657 | EP Container Corp. Santa Fe Springs, CA | 49 CFR, 173.12(b)(2)(i) | To authorize the manufacture, mark, sale and use of certain UN 11G Fiberboard Intermediate Bulk Containers (IBC), for use as the poison pack outer packaging when transporting certain hazardous materials. (mode 1)
12690-N | RSPA-01-9656 | Air Liquide America Corporation, Houston, TX | 49 CFR, 173.304(a)(2), Note 2 | To authorize the transportation in commerce of DOT specification 3AA cylinders having a water capacity of approximately 950 pounds, which when filled, would exceed the 150 pound limit for use in transporting chlorine. (mode 1)
12691-N | RSPA-01-9659 | TITEQ Corporation, Palmdale, CA | 49 CFR, 173.302(a)(2), 175.3 | To authorize the manufacture, mark, sale and use of non-DOT specification cylinder conforming to DOT Specification 3HT cylinder for use in transport certain hazardous materials classed in Division 2.2. (modes 1, 2, 4)
12694-N | RSPA-01-9658 | Illbruck Sealant Systems, Inc., Minneapolis, MN | 49 CFR, 173.306(a)(3)(v) | To authorize an alternative testing method for specifically designed aerosol containers used in transporting Division 2.1 material. (modes 1, 2, 3)
12695-N | RSPA-01-9654 | Global Composites International, Inc., San Dimas, CA | 49 CFR 173.302(a)(1), 173.304(a)(1), 175.3 | To authorize the manufacture, mark, sale and use of non-DOT specification cylinders for use in transporting certain Division 2.1 and 2.2 hazardous materials. (modes 1, 2, 3, 4)
12696-N | RSPA-01-9650 | Phibro-Tech, Inc., Fort Lee, NJ | 49 CFR 173.28(b)(7) | To authorize the transportation in commerce of 30 to 50 gallon UN 1H1/X or Y drums containing a hazardous material not transported under the exclusive control of the refiller. (mode 1)
12698-N | RSPA-01-9652 | Integrated Environmental Services, Inc., Atlanta, GA | 49 CFR, 173.115(a)(b), 173.304(a), 173.34(d)(e) | To authorize the manufacture, mark, sale and use of non-DOT specification full open head, steel/stainless steel salvage cylinders as an overpack in transporting damaged or leaking gas cylinders containing Class 2 material. (modes 1, 3, 4)
12701-N | RSPA-01-9647 | Fuel Cell Components & Integrators, Inc., Hauppauge, NY | 49 CFR, 173.302, 173.304 | To authorize the transportation in commerce of non-DOT specifications cylinders comparable to Specification 4E for use in transporting compressed gas. (modes 1, 2)
12702-N | RSPA-01-9660 | Los Crespos Cylinders, Anasco, PR | 49 CFR, 172.203(a), 172.301(c), 173.34(1) subparagraphs 1, 2, and 3 | To authorize the repair and rebuild of DOT-4B series cylinders for use in transporting hazardous materials as presently authorized. (modes 1, 2, 3)
12703-N | RSPA-01-9646 | Aeronex, Inc., San Diego, CA | 49 CFR, 173.212, 173.213 | To authorize the manufacture, mark, sale and use of non-DOT specification pressure vessels for use in transporting self heating solid, inorganic, n.o.s. material. (modes 1, 2, 3, 4)
12706-N | RSPA-01-9731 | Raufoss Composites AS, Raufoss, NO | 49 CFR, 173.201, 173.301, 173.304, 173.34, 178.35, | To authorize the transportation in commerce of foreign non-DOT specification composite LPG cylinders. (modes 1, 2, 3)
12708-N | RSPA-01-9741 | Ameristar Air Cargo, Inc., Dallas, TX | 49 CFR 173.62 | To authorize the transportation in commerce of certain Division 1.1, 1.2, 1.3 and 1.4 explosives which are forbidden or exceed quantities authorized for transportation by cargo aircraft. (mode 4)

[FR Doc. 01-13563 Filed 5-30-01; 8:45 am]

BILLING CODE 4910-60-M